DEPARTMENT OF HEALTH AND HUMAN SERVICES

Office of Inspector General

Program Exclusions: April 2002

AGENCY: Office of Inspector General, HHS.

ACTION: Notice of program exclusions.

During the month of April 2002, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
Program-Related Convictions
Ahmed, Amir | 05/20/2002
Richmond, VA
ARG Associates | 05/20/2002
Ellicott City, MD
Beckerman, Joseph F | 05/20/2002
Georgetown, KY
Borja, Cuauhtemoc | 05/20/2002
San Diego, CA
Caldwell, Regina | 05/20/2002
Columbus, OH
Camiolo, Christopher | 05/20/2002
Montverde, FL
Carolina Urological Consultant | 07/11/2001
Conway, SC
Chyorny, Leonid | 05/20/2002
Los Angeles, CA
Cichanowski, Doris Ann | 05/20/2002
Brooklyn Park, MN
Davila-Aponta, Wanda | 05/20/2002
Tosa Alta, PR
Der Gregorian, Alain Avans | 05/20/2002
Glendale, CA
Donahue, Thomas P | 05/20/2002
Lafollette, TN
Dzhragatspanyan, Arsen | 05/20/2002
Panorama City, CA
Eason, Darrin Dwight | 05/20/2002
Detroit, MI
Espinoza, Carlos Antonio | 05/20/2002
Gardena, CA
Ferrer, Annilie Arcangel | 05/20/2002
Chowchilla, CA
Gasisyan, Arsen | 05/20/2002
Glendale, CA
Halas, John | 05/20/2002
Voorhees, NJ
Kabrin, Marta | 05/20/2002
Mequon, WI
Kirkland, Mattie | 05/20/2002
Catonsville, MD
Mardin, Rober S | 05/20/2002
Granada Hills, CA
Martin, Elizabeth | 05/20/2002
Marianna, FL
McClatchy, Jessica Warren | 05/20/2002
Fergus Falls, MN
Mkrtchyan, Ovsep | 05/20/2002
Los Angeles, CA
Muniz, Ivette T | 05/20/2002
San Juan, PR
Nicholson, Jennifer L | 05/20/2002
Columbus, OH
Novosel, Mark Eugene | 05/20/2002
FT Lauderdale, FL
Nunez, Perla | 05/20/2002
Victorville, CA
Perez, Daisy | 05/20/2002
Miami, FL
Pham, Michael Q | 05/20/2002
Long Beach, CA
Pisarevsky, Yevgeny | 05/20/2002
Brooklyn, NY
Plasencia, Daniel | 05/20/2002
Miami, FL
Ramos, Daniel M | 05/20/2002
Miami, FL
Ruiz, Reyna Isabel | 05/20/2002
South Gate, CA
Santos, Fredesvinda | 05/20/2002
Miami Beach, FL
Sosa, Lysette | 04/10/2001
Miami, FL
Toman, John S | 05/20/2002
Mclean, VA
Vargas, Laura Astor | 05/20/2002
Yakima, WA
Washington, Patty | 05/20/2002
Columbus, OH
Wellman, Mary Lou | 05/20/2002
Westlake, OH
Felony Conviction for Health Care Fraud
Campos, Lucy B | 05/20/2002
Pleasanton, CA
Caudle, Joel P | 05/20/2002
Brentwood, TN
Funk, Dawn E | 05/20/2002
Broadalbin, NY
Lepko, Ervin E | 05/20/2002
Englewood Cliffs, NJ
Steward, Dwight | 05/20/2002
Washngton, DC
Straface, Eugene | 05/20/2002
Limerick, PA
Felony Control Substance Conviction
Amar, John Jason | 05/20/2002
Victorville, CA
Boyd, Darryl | 05/20/2002
Fort Dix, NJ
Connoyer, Caryl V | 05/20/2002
Bethalto, IL
Hendricks, Jeffrey Phillip | 05/20/2002
Holland, MI
Hennessey, Sandra J | 05/20/2002
Plainfield, VT
Hill, Pamela Jane | 05/20/2002
Broken Arrow, OK
Keenan, Patricia A | 05/20/2002
Twin Lakes, WI
Landreth Serrano, Regina | 05/20/2002
Gatesville, TX
Leonard, Elaine W | 05/20/2002
Newport News, VA
Mchugh-Reiner, Jean ELIZABETH | 05/20/2002
St Charles, MO
Mohrhardt, Debra Ann | 05/20/2002
Spring Lake, MI
Newman, Jean M | 05/20/2002
Wilkes-Barre, PA
Patient Abuse/Neglect Convictions
Allaman, Mary | 05/20/2002
Billings, MT
Bishop, Katherine M | 05/20/2002
Oxford, MS
Bivins, Loretha | 05/20/2002
State Line, MS
Deloach, Terrance | 05/20/2002
Ellisville, MS
Eaton, Brian James | 05/20/2002
Grass Valley, CA
Hankins, Ronald E | 05/20/2002
Milwaukee, WI
Harris, Daphne D | 05/20/2002
Louin, MS
Hatfield, Billie | 05/20/2002
Falls of Rough, KY
Joiner, Cynthia | 05/20/2002
Clarksdale, MS
Mosely, Beverly | 05/20/2002
Meridian, MS
Perez, Yolanda | 05/20/2002
Baltimore, MD
Perrin, Douglas M | 05/20/2002
Lindenwold, NJ
Rinehart, Jeffrey Paul | 05/20/2002
Blackwell, OK
Rudd, Tonya L | 05/20/2002
Memphis, TN
Sabate, Neonita | 05/20/2002
Clinton, NJ
Smith-Owens, Joyce Francine | 05/20/2002
Canton, OH
Stowell, Kevin B | 05/20/2002
Cleveland, OH
Street, Eugenia A | 05/20/2002
N Charleston, SC
Stubbs, Darryl | 05/20/2002
Temple Hills, MD
Taylor, Tosha L | 05/20/2002
Sandusky, OH
Tyson, Kuyana S | 05/20/2002
Syracuse, NY
Conviction for Health Care Fraud
Gunnoe, Eliza T | 05/20/2002
Newbury, MA
Conviction-Obstruction of an Investigation
Leggett, Bethaney Moreau | 05/20/2002
Lafayette, LA
License Revocation/Suspension/Surrendered
Abraham, Annalyn | 05/20/2002
Richfield, UT
Angel, David Lewis Jr | 05/20/2002
Greenwood, IN
Arbanas, Gregory Christopher | 05/20/2002
Mountain View, CA
Baber, Karly Robyn | 05/20/2002
Abilene, TX
Batsford, Edgar W | 05/20/2002
Smithfield, RI
Berryhill, Wesley Eugene | 05/20/2002
Batesville, AR
Blackwood-Day, Jane A | 05/20/2002
St Johnsbury Ctr, VT
Boales, Jerry Lee | 05/20/2002
Eager, AZ
Borland, Melissa G | 05/20/2002
Pawtucket, RI
Breaux, Davina | 05/20/2002
Lafayette, LA
Bretton, Kimberly A | 05/20/2002
S Easton, MA
Brown, Elizabeth Anne | 05/20/2002
Oklahoma City, OK
Brown, Jimmy William | 05/20/2002
De Witt, AR
Calhoon, Dawn Marie | 05/20/2002
Austin, TX
Callagy, Patti J | 05/20/2002
N Andover, MA
Carson, Mallory D | 05/20/2002
Mesa, AZ
Cascio, Daniel | 05/20/2002
Dover, NJ
Castleberry, Sheila R | 05/20/2002
Brookport, IL
Cheng, Samuel K | 05/20/2002
Woodland Hills, CA
Chervenka, Mary Kopriva | 05/20/2002
Lake Ridge, VA
Chiaverelli, Patricia Groves | 05/20/2002
Philadelphia, PA
Ciell, Michael P | 05/20/2002
Safety Harbor, FL
Cochara, John R | 05/20/2002
Twin Lakes, WI
Cook, Paul Allen | 05/20/2002
Whitaker, PA
Crockett, Karen H | 05/20/2002
Deerfield Beach, FL
Cullison, David John | 05/20/2002
Huntingdon Valley, PA
Daines, Lori S | 05/20/2002
Logan, UT
Dane, Mellissa L | 05/20/2002
Bennington, VT
Danko, Rose M | 05/20/2002
Branford, CT
Daruka, Patricia A | 05/20/2002
Warwick, RI
David, Ruth Richter | 05/20/2002
Cedar Rapids, IA
Decarlo, Roselle | 05/20/2002
Hoffman Estates, IL
Dichter, Terry A | 05/20/2002
Huntington Park, CA
Dirks, Holly E | 05/20/2002
Barrington, RI
Dixon, Leonaine Wells | 05/20/2002
Claremont, CA
Dodge, David Child III | 05/20/2002
Denver, CO
Dyman, Katharine E | 05/20/2002
Middletown, RI
Everett, Steven Tyler | 05/20/2002
Port St Luce, FL
Figoten, Bruce Barry | 05/20/2002
Woodland Hills, CA
Fletcher, Roberta | 05/20/2002
Brattleboro, VT
Fortin, Jacqueline Annette | 05/20/2002
Benton, AR
Fruhwirth, Kathleen H | 05/20/2002
Harrisburg, PA
Funicella, Karen | 05/20/2002
Lynn, MA
Gibson, Kimberly G | 05/20/2002
St James, MO
Gilbert, Scott E | 05/20/2002
Tulsa, OK
Godard, Elaine Burns | 05/20/2002
E Stroudsburg, PA
Gomes, Clarisse D | 05/20/2002
Pawtucket, RI
Green, Gregory Neill | 05/20/2002
St Louis, MO
Greenhill Delong, Edith | 05/20/2002
Jefferson, TX
Grove, Patricia M | 05/20/2002
Rutland, VT
Gruer, Barry Howard | 05/20/2002
San Diego, CA
Hall, Lisa Michelle | 05/20/2002
Mesquite, TX
Hanzlik, Renata Maria | 05/20/2002
New York, NY
Harris, Candie L | 05/20/2002
Broadview Hgts, OH
Harris, Juanita | 05/20/2002
Chicago, IL
Heard, Lisa | 05/20/2002
Bossier City, LA
Henriques, Gavin Anthony | 05/20/2002
Los Angeles, CA
Henson, Kathy Vaughn | 05/20/2002
Bristol, VA
Holbert, Roschell W | 05/20/2002
Chicago, IL
Holland, Pamela | 05/20/2002
Harrisonburg, LA
Hopkins Freeman, April C | 05/20/2002
Lubbock, TX
Horne, Kathleen M | 05/20/2002
Woodsville, NH
Howarter, Brandon G | 05/20/2002
Canton, IL
Howe, Mary A | 05/20/2002
Rockford, IL
Hughes, Cathy A | 05/20/2002
Chicago, IL
Hulet, Geoffrey A | 05/20/2002
Chicago, IL
Hulse, Marlene Brown | 05/20/2002
Blackfoot, ID
Hutchinson, Christine E | 05/20/2002
S Burlington, VT
Jackson, Kelly M | 05/20/2002
White Hall, IL
Jackson, Dedire L | 05/20/2002
Chicago, IL
Jasmine, Annetta | 05/20/2002
Lake Charles, LA
Jones, Sharon | 05/20/2002
Chicago, IL
Joo, Young Hwa | 05/20/2002
Cyrpress, CA
Jordan, Maria A | 05/20/2002
Calumet City, IL
Karp, Cherie F | 05/20/2002
Oakdale, NY
Kaswan, Malcolm | 05/20/2002
Water Mill, NY
Kellis, Donald Leroy | 05/20/2002
Boise, ID
Kemp, Anita Kay | 05/20/2002
Roanoke, TX
Kennedy, Janis Elaine | 05/20/2002
Palmdale, CA
King, Paula | 05/20/2002
Houma, LA
Kline, Brandy D | 05/20/2002
Knoxville, IA
Kofman, Glenn | 05/20/2002
Wheeling, IL
Krajnc, Sidnee L | 05/20/2002
Price, UT
Larvey, Kathleen M | 05/20/2002
Kingston, MA
Latawiec, Andrea | 05/20/2002
Clark, NJ
Leafgreen, Becky A | 05/20/2002
Galesburg, IL
Leth, Ida Kelly | 05/20/2002
St Edward, NE
Lichter, Debra Gabbard | 05/20/2002
Philadelphia, PA
Manno, Fred | 05/20/2002
Monroeville, PA
Marecic, Judith A | 05/20/2002
Pittsburgh, PA
McCusker, Charles | 05/20/2002
Murray, UT
McGuire, Patricia J | 05/20/2002
Oak Lawn, IL
McLaughlin, Vicky D | 05/20/2002
Mount Vernon, IL
McPherson, Madeleine T | 05/20/2002
Rochester, NY
Missildine, Pamela S | 05/20/2002
Eufaula, AL
Morales, Carmen L | 05/20/2002
Chicago, IL
Morgan, Jeanette M | 05/20/2002
Swansea, IL
Mulfinger, George L | 05/20/2002
Pasadena, CA
Murphy, Ronda F | 05/20/2002
Carterville, IL
Nielsen, Laura Joan | 05/20/2002
Pocatello, ID
Oberlender, Sheri Lynn Craig | 05/20/2002
Sandpoint, ID
Oswald, Thomas Allen | 05/20/2002
Wadsworth, OH
Ott, Richard M | 05/20/2002
St Petersburg, FL
Owens, Rhonda A | 05/20/2002
Chicago, IL
Pansegrau, Mary Catherine | 05/20/2002
Correctionville, IA
Parris, Russell | 05/20/2002
Aurora, CO
Pierce, Grant M | 05/20/2002
Rockford, IL
Pille, Mary Knight | 05/20/2002
Herman, NE
Plachy, Robert Thomas Jr | 05/20/2002
Amagansett, NY
Provenzano, Frank J | 05/20/2002
Uniontown, PA
Quevedo, Ranona Dale | 05/20/2002
Rockford, IL
Rachel Pharmacy Discount, Inc | 05/20/2002
Hialeah, FL
Ratcliff, Michelle Lee | 05/20/2002
Henderson, TX
Reardon, Richard R | 05/20/2002
Phoenix, AZ
Reber, Mary Ann S | 05/20/2002
Lytle, TX
Reed, Lorraine | 05/20/2002
New Hope, PA
Reid, Kendall A | 05/20/2002
Chicago, IL
Rheinheimer, Heide M | 05/20/2002
Atlanta, GA
Ripley, Elizabeth | 05/20/2002
Middleburg, FL
Rizzo, Michael J | 05/20/2002
Flinton, PA
Robinson, Susan Brooks | 05/20/2002
St Petersburg, FL
Rogers, Johnna E | 05/20/2002
Warrenton, MO
Rogers, Jason A | 05/20/2002
Miamesburg, OH
Rooke, Jacki M | 05/20/2002
Earlysville, VA
Rothermel, Julie A | 05/20/2002
N Providence, RI
Rouse, Judy L | 05/20/2002
Cuba, MO
Rusch, Beverly | 05/20/2002
Beulah, ND
Rust, Gretchen Louise | 05/20/2002
Miles City, MT
Ryan, Derald L | 05/20/2002
Glendale, AZ
Sanders, Dawn Catrese | 05/20/2002
University Park, IL
Schlossman, David Craig | 05/20/2002
Overland Park, KS
Schnoor, Tami S | 05/20/2002
Kansas City, MO
Schoenhoeft, Joseph | 05/20/2002
Susanville, CA
Sefter, Anne H | 05/20/2002
Appomattox, VA
Shadrick, Lisa B | 05/20/2002
Salt Lake City, UT
Shaffer Beard, Debra Michelle | 05/20/2002
Oklahoma City, OK
Shodeinde, Diana F | 05/20/2002
Corona, CA
Silfies, Jayne | 05/20/2002
Waynesburg, PA
Soukup, Richard A | 05/20/2002
Riverside, IA
Sporn, Alexander L | 05/20/2002
Rego Park, NY
Stacy, Daniel Franklin | 05/20/2002
Coronado, CA
Stanford, Samuel R | 05/20/2002
Midlothian, VA
Staple, Andrea Read | 05/20/2002
San Bernadino, CA
Stapley, Susan Ilene Buchanan | 05/20/2002
Atascadero, CA
Stephenson, Melanie Ann | 05/20/2002
Gallipolis, OH
Stevens, Ami Rosemarie | 05/20/2002
Zanesville, OH
Suliveres, Sara-Jane | 05/20/2002
St Johnsbury, VT
Sutherland Ebel, Amy Jo | 05/20/2002
Enid, OK
Thomas, Adriese | 05/20/2002
Chicago, IL
Tilghman, James E | 05/20/2002
Cape Girardeau, MO
Tillery, Merlene | 05/20/2002
E St Louis, IL
Torres, Wilhelmina C | 05/20/2002
Oak Lawn, IL
Travelstead-Russell, Lorie A | 05/20/2002
Galatia, IL
Tummillo, Marie E | 05/20/2002
Manakin Sabot, VA
Turner, John Melton | 05/20/2002
Menlo Park, CA
Ty, Blandina F | 05/20/2002
Closter, NJ
Vangraefschepe, Laurie June | 05/20/2002
Billings, MT
Vespe, John Robert | 05/20/2002
Phoenix, AZ
Visacki, Miodrag | 05/20/2002
Sarasota, FL
Volpez, Pablo Enriquez | 05/20/2002
Oakland, CA
Vu, Hong T | 05/20/2002
Chicago, iL
Watson, Lesa | 05/20/2002
Shreveport, LA
Wechling, Clare Deane | 05/20/2002
O'Fallon, MO
Weremeichik, Jessica L | 05/20/2002
S Burlington, VT
Wexler, Harold Mark | 05/20/2002
Chatsworth, CA
White, Tracy Lyons | 05/20/2002
Phoenix, AZ
White, Karrey Lee Stone | 05/20/2002
Meridian, ID
Wilber, Harold | 05/20/2002
Syracuse, NY
Wilhelm, Melissa J | 05/20/2002
Chicago, IL
Williams, Vickie E | 05/20/2002
Alton, IL
Wilson, Andrea | 05/20/2002
Acra, NY
Witter, Deborah Sue | 05/20/2002
Mesa, AZ
Woodruff, Holly Lynn Fabricus | 05/20/2002
Gering, NE
Wright, Cecelia R | 05/20/2002
Chicago, IL
Wyatt-Riley, Sharon L | 05/20/2002
Princeton, IN
Yates, Debra Lynne | 05/20/2002
Costa Mesa, CA
Yavel, Robert Paul | 05/20/2002
Jamaica, NY
Yemat, Alex Alberto | 05/20/2002
Miami, FL
Young, Hui Kim | 05/20/2002
Alcoa, TN
Federal/State Exclusion/Suspension
Pates, Rosemary | 05/20/2002
St Louis, MO
Fraud/Kickbacks
Bulgeron, Richard | 11/16/2000
San Antonio, TX
Centafanti, Gary D | 04/03/2001
Naples, FL
Centafanti, Cathy T | 04/03/2001
Naples, FL
Lopez, Anthony R | 02/14/2002
El Paso, TX
Mejia, Manuel | 10/24/2000
Lytle, TX
Salerno, James G | 12/19/2001
Ahoskie, NC
Sanvito, Anthony V | 12/13/1999
Coraopolis, PA
Owned/Controlled by Convicted Entities
Memorial Medical Center | 05/20/2002
Mountain Home, ID
Neurodiagnostic Systems, Inc | 05/20/2002
Montverde, FL
Rozenberg Chiropractic | 05/20/2002
Hicksville, NY
Default on Heal Loan
Lewis, Stuart Todd | 05/20/2002
Boynton Beach, FL
Mercado, Rafael L | 04/02/2002
San Antonio, TX
Rosales, Anna Marie | 04/02/2002
San Antonio, TX
Winfrey, Brian K | 05/20/2002
Astoria, NY
Wisk, Duane F | 03/12/2002
Gross Pointe, MI

Dated: May 15, 2002.
Calvin Anderson, Jr.,
Director, Health Care Administrative Sanctions, Office of Inspector General.

[FR Doc. 02-13051 Filed 5-23-02; 8:45 am]

BILLING CODE 4150-04-P